DEPARTMENT OF COMMERCE

National Oceanic and Atmospheric Administration

[RTID 0648-XA634]

Atlantic Highly Migratory Species; Meeting of the Atlantic Highly Migratory Species Advisory Panel

AGENCY: National Marine Fisheries Service (NMFS), National Oceanic and Atmospheric Administration (NOAA), Commerce.

ACTION: Notice of public webinar/conference call.

SUMMARY: NMFS will hold a 1-day Atlantic Highly Migratory Species (HMS) Advisory Panel (AP) meeting via webinar in December 2020. The intent of the meeting is to consider options for the conservation and management of Atlantic HMS. The meeting is open to the public.

DATES: The AP meeting and webinar will be held from 9:30 a.m. to 3:45 p.m. on Monday, December 7, 2020.

ADDRESSES: The meeting on Monday, December 7 will be accessible via conference call and webinar. Conference call and webinar access information are available at: https://www.fisheries.noaa.gov/event/december-2020-hms-advisory-panel-meeting.

Participants are strongly encouraged to log/dial in 15 minutes prior to the meeting. NMFS will show the presentations via webinar and allow public comment during identified times on the agenda.

FOR FURTHER INFORMATION CONTACT: Peter Cooper at (301) 427-8503 or Peter.Cooper@noaa.gov.

SUPPLEMENTARY INFORMATION: The Magnuson-Stevens Fishery Conservation and Management Act requires the establishment of an AP for each Fishery Management Plan (FMP) for Atlantic HMS, i.e., tunas, swordfish, billfish, and sharks. 16 U.S.C. 1854(g)(1)(A)-(B). Since the inception of the AP in 1998, NMFS has consulted with and considered the comments and views of AP members when preparing and implementing Atlantic HMS FMPs or FMP amendments.

The intent of this meeting is to consider alternatives for the conservation and management of all Atlantic tunas, swordfish, billfish, and shark fisheries. We anticipate discussing:

• Draft Amendment 14, which would revise the framework used for the establishment of acceptable biological catch (ABCs) and annual catch limits (ACLs) for Atlantic shark fisheries consistent with the National Standard 1 guidelines;

• Management of the recreational billfish fishery in 2021 resulting from overharvest of the Atlantic blue marlin, white marlin, and roundscale spearfish 250-fish landings limit in 2020; and

• The Draft HMS Electronic Technology Plan.

Additional information on the meeting and a copy of the draft agenda will be posted prior to the meeting at: https://www.fisheries.noaa.gov/event/december-2020-hms-advisory-panel-meeting.

Dated: November 12, 2020.
Jennifer M. Wallace,
Acting Director, Office of Sustainable Fisheries, National Marine Fisheries Service.

[FR Doc. 2020-25338 Filed 11-16-20; 8:45 am]

BILLING CODE 3510-22-P